DEPARTMENT OF TRANSPORTATION

Federal Aviation Administration

Advisory Circular 33.88A, Turbine Engine Vibration Test

AGENCY: Federal Aviation Administration (FAA), DOT.

ACTION: Notice of issuance of advisory circular.

SUMMARY: This notice announces the issuance of Advisory Circular (AC) 33.83A, Turbine Engine Vibration Test. This advisory circular (AC) provides guidance and acceptable methods, but not the only methods, that may be used to demonstrate compliance with the vibration test requirements of § 33.83 of Title 14 of the Code of Federal Regulations (14 CFR part 33). This AC cancels AC 33.83, dated February 14, 1997.

DATES: Advisory Circular 33.83A was issued by the Manager of the Engine and Propeller Directorate, Aircraft Certification Service, on September 29, 2006.

FOR FURTHER INFORMATION CONTACT: The Federal Aviation Administration, Attn: Dorina Mihail, Engine and Propeller Standards Staff, ANE-110, 12 New England Executive Park, Burlington, MA 01803-5299; telephone: (781) 238-7153; fax: (781) 238-7199; e-mail: dorina.mihail@faa.gov.

We have filed in the docket all substantive comments received, and a report summarizing them. If you wish to review the docket in person, you may go to the above address between 9 a.m. and 5 p.m., Monday through Friday, except Federal holidays. If you wish to contact the above individual directly, you can use the above telephone number or e-mail address provided.

How to Obtain Copies: A paper copy of AC 33.83A may be obtained by writing to the U.S. Department of Transportation, Subsequent Distribution Office, DOT Warehouse, SVC-121.23, Ardmore East Business Center, 3341Q 75th Ave., Landover, MD 20785, telephone 301-322-5377, or by faxing your request to the warehouse at 301-386-5394. The AC will also be available on the Internet at http://www.faa.gov/regulations_policies/ (then click on “Advisory Circulars”).

(Authority: 49 U.S.C. 106(g), 40113, 44701-44702, 44704.)

Issued in Burlington, Massachusetts, on September 29, 2006.
Francis A. Favara,
Manager, Engine and Propeller Directorate, Aircraft Certification Service.

[FR Doc. 06-8890 Filed 10-25-06; 8:45 am]

BILLING CODE 4910-13-M